CONSUMER PRODUCT SAFETY COMMISSION

Sunshine Act Meeting

TIME AND DATE: Wednesday, March 1, 2023; 10:00 a.m.

PLACE: This will be a hybrid meeting; held virtually and in Bethesda, MD.

STATUS: Commission Meeting—Closed to the Public.

Matter To Be Considered: Briefing Matter.

CONTACT PERSON FOR MORE INFORMATION: Alberta E. Mills, Office of the Secretary, U.S. Consumer Product Safety Commission, 4330 East West Highway, Bethesda, MD 20814, 301-504-7479 (Office) or 240-863-8938 (Cell).

Dated: February 28, 2023.
Alberta E. Mills,
Commission Secretary.

[FR Doc. 2023-04469 Filed 3-1-23; 11:15 am]

BILLING CODE 6355-01-P